SMALL BUSINESS ADMINISTRATION

Committee Management; Notice of Renewal

The Administrator of the U.S. Small Business Administration (SBA) has determined that the renewal of the National Small Business Development Center Advisory Board is necessary and in the public interest in connection with the performance of duties imposed upon the Administrator, U.S. Small Business Administration by 15 U.S.C. 633. This determination follows consultation with the Management Secretariat, General Service Administration.

Name of Committee: National Small Business Development Center Advisory Board.

Purpose and Objective: The goals and objectives of the Board are to advise, counsel, and confer with the Associate Administrator, Office of Small Business Development Centers (SBDCs) in carrying out her/his duties. The scope of the Board's activities covers the entire SBDC program.

Balanced Membership Plans: The board consists of nine members. Every effort is made to select board members who are known to be familiar and sympathetic with small business needs and problems.

Duration: Continuing.

Responsible SBA Officials: Antonio Doss, Associate Administrator, Office of Small Business Development Centers, U.S. Small Business Administration, 409 3rd Street, SW., Washington, DC 20416.

Dated: December 19, 2005.
Matthew K. Becker,
Committee Management Officer.

[FR Doc. 05-24452 Filed 12-23-05; 8:45am]

BILLING CODE 8025-01-M